POSTAL REGULATORY COMMISSION

[Docket Nos. MC2020-156 and CP2020-170; CP2020-171; CP2020-172; MC2020-157 and CP2020-173; MC2020-158 and CP2020-174; CP2020-175]

New Postal Products

AGENCY: Postal Regulatory Commission.

ACTION: Notice.

SUMMARY: The Commission is noticing a recent Postal Service filing for the Commission's consideration concerning negotiated service agreements. This notice informs the public of the filing, invites public comment, and takes other administrative steps.

DATES: Comments are due: June 19, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Docketed Proceeding(s)

I. Introduction

The Commission gives notice that the Postal Service filed request(s) for the Commission to consider matters related to negotiated service agreement(s). The request(s) may propose the addition or removal of a negotiated service agreement from the market dominant or the competitive product list, or the modification of an existing product currently appearing on the market dominant or the competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

The Commission invites comments on whether the Postal Service's request(s) in the captioned docket(s) are consistent with the policies of title 39. For request(s) that the Postal Service states concern market dominant product(s), applicable statutory and regulatory requirements include 39 U.S.C. 3622, 39 U.S.C. 3642, 39 CFR part 3030, and 39 CFR part 3040, subpart B. For request(s) that the Postal Service states concern competitive product(s), applicable statutory and regulatory requirements include 39 U.S.C. 3632, 39 U.S.C. 3633, 39 U.S.C. 3642, 39 CFR part 3035, and 39 CFR part 3040, subpart B. Comment deadline(s) for each request appear in section II.

II. Docketed Proceeding(s)

1. Docket No(s).: MC2020-156 and CP2020-170; Filing Title: USPS Request to Establish New Priority Mail—Non-Published Rates Product (PMRPR-2) and Notice of Filing Materials Under Seal; Filing Acceptance Date: June 11, 2020; Filing Authority: 39 U.S.C. 3642, 39 CFR 3040.130 through 3040.135, and 39 CFR 3035.105; Public Representative: Kenneth R. Moeller; Comments Due: June 19, 2020.

2. Docket No(s).: CP2020-171; Filing Title: Notice of United States Postal Service of Filing a Functionally Equivalent Global Reseller Expedited Package 2 Negotiated Service Agreement and Application for Non-Public Treatment of Materials Filed Under Seal; Filing Acceptance Date: June 11, 2020; Filing Authority: 39 CFR 3035.105; Public Representative: Jennaca D. Upperman; Comments Due: June 19, 2020.

3. Docket No(s).: CP2020-172; Filing Title: Notice of United States Postal Service of Filing a Functionally Equivalent Global Reseller Expedited Package 2 Negotiated Service Agreement and Application for Non-Public Treatment of Materials Filed Under Seal; Filing Acceptance Date: June 11, 2020; Filing Authority: 39 CFR 3035.105; Public Representative: Jennaca D. Upperman; Comments Due: June 19, 2020.

4. Docket No(s).: MC2020-157 and CP2020-173; Filing Title: USPS Request to Add Priority Mail Express International, Priority Mail International, First-Class Package International Service & Commercial ePacket Contract 2 to Competitive Product List and Notice of Filing Materials Under Seal; Filing Acceptance Date: June 11, 2020; Filing Authority: 39 U.S.C. 3642, 39 CFR 3040.130 through 3040.135, and 39 CFR 3035.105; Public Representative: Lawrence Fenster; Comments Due: June 19, 2020.

5. Docket No(s).: MC2020-158 and CP2020-174; Filing Title: USPS Request to Add Priority Mail Express International, Priority Mail International, First-Class Package International Service & Commercial ePacket Contract 3 to Competitive Product List and Notice of Filing Materials Under Seal; Filing Acceptance Date: June 11, 2020; Filing Authority: 39 U.S.C. 3642, 39 CFR 3040.130 through 3040.135, and 39 CFR 3035.105; Public Representative: Lawrence Fenster; Comments Due: June 19, 2020.

6. Docket No(s).: CP2020-175; Filing Title: Notice of United States Postal Service of Filing a Functionally Equivalent Global Reseller Expedited Package 2 Negotiated Service Agreement and Application for Non-Public Treatment of Materials Filed Under Seal; Filing Acceptance Date: June 11, 2020; Filing Authority: 39 CFR 3035.105; Public Representative: Jennaca D. Upperman; Comments Due: June 19, 2020.

This Notice will be published in the Federal Register.

Erica A. Barker,
Secretary.

[FR Doc. 2020-13053 Filed 6-16-20; 8:45 am]

BILLING CODE 7710-FW-P